DEPARTMENT OF ENERGY

Federal Energy Regulatory Commission

Notice of Revocation of Market-Based Rate Authority and Termination of Electric Market-Based Rate Tariff

| Docket No.
Electric Quarterly Reports | ER02-2001-020
Fibrominn LLC | ER12-1161-002
BluCo Energy LLC | ER12-1279-000
Alternate Power Source Inc., | ER11-4550-000
Atlantic Coast Energy Corporation | ER13-734-000

On March 19, 2018, the Commission issued an order announcing its intent to revoke the market-based rate authority of the public utilities listed in the caption of that order, which included the companies listed in the caption above, which had failed to file their required Electric Quarterly Reports.¹ The Commission directed those public utilities to file the required Electric Quarterly Reports within 15 days of the date of issuance of the order or face revocation of their authority to sell power at market-based rates and termination of their electric market-based rate tariffs.²

¹ Electric Quarterly Reports, 162 FERC 61,249 (2018) (March 19 Order).

² Id. at Ordering Paragraph A.

The time period for compliance with the March 19 Order has elapsed. The above-captioned companies failed to file their delinquent Electric Quarterly Reports. The Commission hereby revokes, effective as of the date of issuance of this notice, the market-based rate authority and terminates the electric market-based rate tariff of each of the companies who are named in the caption of this order.

Dated: April 25, 2018.
Kimberly D. Bose,
Secretary.

[FR Doc. 2018-09250 Filed 5-1-18; 8:45 am]

BILLING CODE 6717-01-P